DEPARTMENT OF TRANSPORTATION

Federal Aviation Administration

14 CFR Part 39

[Docket No. 2002-NM-34-AD; Amendment 39-13245; AD 2003-15-03]

RIN 2120-AA64

Airworthiness Directives; Boeing Model 767-200, -300, and -300F Series Airplanes

AGENCY: Federal Aviation Administration, DOT.

ACTION: Final rule.

SUMMARY: This amendment adopts a new airworthiness directive (AD), applicable to certain Boeing Model 767 series airplanes, that requires replacement of the aileron control override quadrant with a modified unit. The actions specified by this AD are intended to prevent corrosion of the input override mechanism bearings of the lateral central control actuator, which, in the event of a subsequent jam in the pilot's aileron control system, could result in failure of the aileron override system and consequent reduced lateral controllability of the airplane. This action is intended to address the identified unsafe condition.

DATES: Effective September 2, 2003.

The incorporation by reference of certain publications listed in the regulations is approved by the Director of the Federal Register as of September 2, 2003.

ADDRESSES: The service information referenced in this AD may be obtained from Boeing Commercial Airplane Group, P.O. Box 3707, Seattle, Washington 98124-2207. This information may be examined at the Federal Aviation Administration (FAA), Transport Airplane Directorate, Rules Docket, 1601 Lind Avenue, SW., Renton, Washington; or at the Office of the Federal Register, 800 North Capitol Street, NW., Suite 700, Washington, DC.

FOR FURTHER INFORMATION CONTACT: Douglas Tsuji, Aerospace Engineer, Systems and Equipment Branch, ANM-130S, FAA, Seattle Aircraft Certification Office, 1601 Lind Avenue, SW., Renton, Washington 98055-4056; telephone (425) 917-6487; fax (425) 917-6590.

SUPPLEMENTARY INFORMATION: A proposal to amend part 39 of the Federal Aviation Regulations (14 CFR part 39) to include an airworthiness directive (AD) that is applicable to certain Boeing Model 767 series airplanes was published as a supplemental notice of proposed rulemaking (NPRM) in the Federal Register on February 24, 2003 (68 FR 8566). That action proposed to require replacement of the aileron control override quadrant with a modified unit. That action also proposed to revise the applicability of the original NPRM.

Comments

Interested persons have been afforded an opportunity to participate in the making of this amendment. Due consideration has been given to the comments received. One commenter has a program in place to do the modification specified in the supplemental NPRM. Another commenter concurs with the contents of the supplemental NPRM and has no additional comments.

Request for Immediate Check of the Fleet Before Replacement

One commenter agrees that the replacement of the aileron control override quadrant with a modified unit that is not susceptible to corrosion, as specified in the supplemental NPRM, is necessary. However, the commenter states that it would have preferred that an additional immediate check of the fleet be added to the supplemental NPRM to identify any seized assemblies so that they could be replaced before a dormant failure became critical. The commenter adds that 18 months is a long time for airplanes to be exposed to the identified deficiency.

We do not agree that it is necessary to add an immediate check of the fleet to the final rule to identify seized assemblies of the aileron control override quadrant before accomplishment of the replacement. In developing the 18-month compliance time for the replacement of the aileron control override quadrant, we considered the effects of a jammed lateral system, combined with a seized override bearing (increased wheel load), and determined that such a compliance time would allow operators sufficient time to accomplish the replacement and would adequately address the unsafe condition. However, operators are always permitted to perform the actions earlier than the compliance time specified in an AD. No change to the final rule is necessary in this regard.

Request To Extend Compliance Time

One commenter asks that the compliance time specified in the supplemental NPRM be extended from 18 months to 24 months or at the next C-check, whichever is later. The commenter states it has reworked four of its airplanes and submits the following supporting data:

• No signs of corrosion or seizure of bearings was present.

• Currently, limited quantities of compliant spares exist in industry.

• Costs and turnaround times far exceed the supplemental NPRM estimates.

Paragraph (a) of the supplemental NPRM specifies an 18-month compliance period to replace the aileron control quadrant with a modified unit. The commenter does not have “in house” capabilities to accomplish the retrofit of the aileron quadrants, nor is its machine shop utilized for heavy maintenance. Therefore, the quadrants must be sent to Boeing for modification and/or repair, which exceeds the specified turnaround time and costs.

We do not agree with the commenter's request to extend the compliance time to 24 months or the next C-check, whichever is later. With regard to parts availability, as stated above, we find that an 18-month compliance time will be adequate for a sufficient quantity of parts to be available. With regard to extending the compliance time to allow the replacement to be accomplished at a C-check, we have already considered factors such as operators' maintenance schedules in setting a compliance time for the required replacement and determined that 18 months is an appropriate compliance time in which the replacement may be accomplished during scheduled airplane maintenance for the majority of affected operators. Since maintenance schedules vary from operator to operator, it would not be possible to guarantee that all affected airplanes could be modified during scheduled maintenance, even with a compliance time of 24 months. In any event, we find that 18 months represents the maximum time wherein the affected airplanes may continue to operate without compromising safety. No change to the final rule is necessary in this regard.

Alternate Method of Compliance

One commenter asks that, as an alternate method of compliance to the required roller swage installation procedures done during the specified replacement, operators be allowed to stake the subject bearings per the Boeing Standard Overhaul Practices Manual (SOPM), Chapter 20-50-03.

We infer that the commenter requests this alternate method because it's easier to do; however, we do not agree with the commenter that the suggested alternative method of staking the bearings per the SOPM, instead of doing the roller swage installation procedures, can be done. The replacement bearings and the bearing lugs of the aileron control quadrant are specifically designed for roller swaging, not bearing staking. No change to the final rule is necessary in this regard.

Request To Change Cost Impact Section

One commenter asks that the Cost Impact section in the supplemental NPRM be changed. In addition to the supporting information provided in the Request To Extend Compliance Time section discussed previously, the commenter adds that two of the four aileron quadrant assemblies on its airplanes were damaged during the removal process. As a result of this damage, the assemblies were sent to Boeing for repair, at a cost of $2,816.67, with an estimated turnaround time of 45 days. Boeing indicated that the damage caused is common to this type of bearing housing when removed. Two new units were purchased by the commenter to replace the damaged units at a cost of approximately $13,000.00 per unit. The commenter notes that this cost is not specified in the referenced service bulletin, and adds that the supplemental NPRM should be re-evaluated for costs and work hours necessary for the replacement.

We have investigated the commenter's concerns regarding the cost information specified in the supplemental NPRM, and we do not agree with the request to re-evaluate the costs and work hours necessary for the replacement specified in the Cost Impact section of the supplemental NPRM. The Cost Impact section only includes the “direct” costs of the specific actions required, not costs associated with repair of parts damaged while performing the actions, costs of new parts to replace the damaged parts, or costs associated with the turnaround time for the repair. Such costs would be required regardless of AD direction, to correct an unsafe condition identified in an airplane and to ensure the airworthiness of that airplane, as required by the Federal Aviation Regulations. No change to the Cost Impact section in the final rule is necessary.

Conclusion

After careful review of the available data, including the comments noted above, the FAA has determined that air safety and the public interest require the adoption of the rule as proposed.

Changes to 14 CFR Part 39/Effect on the AD

On July 10, 2002, the FAA issued a new version of 14 CFR part 39 (67 FR 47997, July 22, 2002), which governs the FAA's airworthiness directives system. The regulation now includes material that relates to altered products, special flight permits, and alternative methods of compliance. However, for clarity and consistency in this final rule, we have retained the language of the supplemental NPRM regarding that material.

Cost Impact

There are approximately 836 airplanes of the affected design in the worldwide fleet. The FAA estimates that 443 airplanes of U.S. registry will be affected by this AD, that it will take approximately 10 work hours per airplane to accomplish the actions, and that the average labor rate is $60 per work hour. Required parts will cost approximately $146 per airplane. Based on these figures, the cost impact of the AD on U.S. operators is estimated to be $330,478, or $746 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-15-03 Boeing: Amendment 39-13245. Docket 2002-NM-34-AD.

Applicability: Model 767-200, -300, and -300F series airplanes; certificated in any category; line numbers 1 through 836 inclusive.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent corrosion of the input override mechanism bearings of the lateral central control actuator, which, in the event of a subsequent jam in the pilot's aileron control system, could result in failure of the aileron override system and consequent reduced lateral controllability of the airplane, accomplish the following:

Replacement

(a) Within 18 months after the effective date of this AD, replace the aileron control override quadrant with a modified unit, in accordance with Boeing Alert Service Bulletin 767-27A0175, dated October 25, 2001.

Note 2: This AD does not require accomplishment of the actions specified by Boeing Service Bulletin 767-27-0142.

Part Installation

(b) As of the effective date of this AD, no person may install, on any airplane, an aileron control override quadrant that has not been modified in accordance with the requirements of this AD.

Alternative Methods of Compliance

(c) An alternative method of compliance or adjustment of the compliance time that provides an acceptable level of safety may be used if approved by the Manager, Seattle Aircraft Certification Office (ACO), FAA. Operators shall submit their requests through an appropriate FAA Principal Maintenance Inspector, who may add comments and then send it to the Manager, Seattle ACO.

Note 3: Information concerning the existence of approved alternative methods of compliance with this AD, if any, may be obtained from the Seattle ACO.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Boeing Alert Service Bulletin 767-27A0175, dated October 25, 2001. This incorporation by reference was approved by the Director of the Federal Register in accordance with 5 U.S.C. 552(a) and 1 CFR part 51. Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(f) This amendment becomes effective on September 2, 2003.

Issued in Renton, Washington, on July 17, 2003.
Ali Bahrami,
Acting Manager, Transport Airplane Directorate, Aircraft Certification Service.

[FR Doc. 03-18787 Filed 7-25-03; 8:45 am]

BILLING CODE 4910-13-P